FEDERAL MARITIME COMMISSION

46 CFR Part 535

[Docket No. 09-02]

RIN 3072-AC35

Repeal of Marine Terminal Agreement Exemption

AGENCY: Federal Maritime Commission.

ACTION: Notice of proposed rulemaking; extension of comment period.

SUMMARY: In a proposed rule published in the Federal Register on July 2, 2009, the Federal Maritime Commission proposed to repeal the exemption from the 45-day waiting period requirement applicable to certain Marine Terminal Agreements. The Commission also proposed to correct a typographical error in its regulations. This document extends the comment period.

DATES: Comments on the proposed rule published July 2, 2009 (74 FR 31666), are due by September 8, 2009.

ADDRESSES: Address all comments concerning this proposed rule to: Karen V. Gregory, Secretary, Federal Maritime Commission, 800 North Capitol Street, NW., Room 1046, Washington, DC 20573-0001, Secretary@fmc.gov, (202) 523-5725.

FOR FURTHER INFORMATION CONTACT: Peter J. King, General Counsel, Federal Maritime Commission, 800 North Capitol Street, NW., Room 1018, Washington, DC 20573-0001, generalcounsel@fmc.gov, (202) 523-5740.

Karen V. Gregory,
Secretary.

[FR Doc. E9-19901 Filed 8-18-09; 8:45 am]

BILLING CODE P